DEPARTMENT OF TRANSPORTATION

National Highway Traffic Safety Administration

[Docket No. NHTSA-2000-8561]

Reports, Forms, and Recordkeeping Requirements

AGENCY: National Highway Traffic Safety Administration (NHTSA), DOT.

ACTION: Request for public comment on proposed collections of information.

SUMMARY: Before a Federal agency can collect certain information from the public, it must receive approval from the Office of Management and Budget (OMB). Under new procedures established by the Paperwork Reduction Act of 1995, before seeking OMB approval, Federal agencies must solicit public comment on proposed collections of information, including extensions and reinstatements of previously approved collections.

This document describes one collection of information for which NHTSA intends to seek OMB approval.

DATES: Comments must be received on or before March 6, 2001.

ADDRESSES: Comments must refer to the docket and notice numbers cited at the beginning of this notice and be submitted to Docket Management, room PL-401, 400 Seventh St. SW., Washington, DC 20590. Please identify the proposed collection of information for which a comment is provided, by referencing its OMB Clearance Number. It is requested, but not required, that 1 original plus 2 copies of the comments be provided. The Docket Section is open on weekdays from 10:00 a.m. to 5:00 p.m.

FOR FURTHER INFORMATION CONTACT: Complete copies of the request for collection of information may be obtained at no charge from Mr. Samuel Daniel, NHTSA, 400 Seventh Street, SW., room 5313, Washington, DC 20590. Mr. Daniel's telephone number is (202) 366-4921. Please identify the relevant collection of information by referring to its OMB Clearance Number.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Motor Vehicle Brake Fluid Container Labeling

49 CFR 571.116

Type of Request—Reinstatement of clearance.

OMB Clearance Number—2127-0521.

Form Number—This collection of information uses no standard forms.

Requested Expiration Date of Approval—Three years from date of approval.

Summary of the Collection of Information—Federal Motor Vehicle Safety Standard No. 116, “Motor Vehicle Brake Fluids,” specifies performance and design requirements for motor vehicle brake fluids and hydraulic system mineral oils. Section 5.2.2 specifies labeling requirements for manufacturers and packagers of brake fluids as well as packagers of hydraulic system mineral oils. The information on the label of a container of motor vehicle brake fluid or hydraulic system mineral oil is necessary to insure the following: the contents of the container are clearly stated; these fluids are used for their intended purpose only; and, the containers are properly disposed of when empty. Improper use or storage of these fluids could have dire safety consequences for the operators of vehicles or equipment in which they are used.

Description of the need for the information and proposed use of the information—This labeling information is used by motor vehicle owners, operators, and vehicle service facilities to aid in the proper selection of brake fluids and hydraulic system mineral oils for use in motor vehicles and hydraulic equipment, to assure the continued safety of motor vehicle braking and hydraulic systems, respectively. The information required on brake fluid and hydraulic mineral oil containers includes the performance capabilities of the fluid. There are also safety warnings required on brake fluid and hydraulic system mineral oil containers to prevent improper use, storage, etc. which might result in motor vehicle brake failure and the failure of equipment utilizing hydraulic system mineral oil.

Properties of these fluids and their use necessitate the package labeling information specified in this standard. Brake fluid and hydraulic system mineral oil must be free of contaminants in order to perform as intended; therefore, the labeling instructions warn against storing in unsealed containers or mixing these fluids with other products. Also, avoiding the absorption of moisture is extremely important since moisture in a brake system degrades braking performance and safety by lowering brake fluid's boiling point, increasing the fluid's viscosity at low atmospheric temperatures and increasing the risk of brake system component corrosion. Lower boiling points increase the risk of brake system failure by increasing the possibility of vapor lock and resultant loss of pressure in the brake system. The safety warnings also alert users of brake fluids sold in containers with capacities of less than five gallons that the containers should not be refilled or reused for other purposes.

If the labeling requirements were not mandatory, maintaining the current level of brake safety on the nation's highways would be more difficult. Proper vehicle brake performance is crucial to the safety of motor vehicle occupants, and the information on fluid containers is necessary to aid in reducing brake system failures resulting from the use of improper or contaminated fluid. The labeling on fluid containers also helps to ensure that only fluid that complies with federal requirements is sold, and this also facilitates agency enforcement efforts by identifying the fluid packager, manufacturer, and date of manufacture.

Description of the Likely Respondents (Including Estimated Number, and Proposed Frequency of Response to the Collection of Information—There are an estimated 200 respondents, mainly those manufacturers and packagers involved with the production of motor vehicle brake and hydraulic fluids. A label is required on each container of fluid sold.

Estimate of the Total Annual Reporting and Recordkeeping Burden Resulting from the Collection of Information—The total annualized cost to respondents is estimated by the agency to be $372,370 which includes a labor burden and material costs. The labor burden is estimated to be 7,680 hours performed by a total of 200 respondents. The labor burden involves the designing of labels for each label redesign cycle at an estimated cost of $38.00 per hour. The estimated annual labor burden is therefore $291,840 and the cost of materials, primarily ink for label printing, is estimated to be $402.65 per respondent for an annual total of $80,530.

Authority: 44 U.S.C. 3506(c); delegation of authority at 49 CFR 1.50.

Issued: December 29, 2000.
Noble N. Bowie,
Acting Associate Administrator for Safety Performance Standards.

[FR Doc. 01-344 Filed 1-4-01; 8:45 am]

BILLING CODE 4910-59-P